FEDERAL RETIREMENT THRIFT INVESTMENT BOARD

Employee Thrift Advisory Council Meeting; Sunshine Act; Notice of Meeting

Time and Date: 10 a.m. (Eastern Time), June 24, 2010.

Place: 4th Floor, Conference Room, 1250 H Street, NW., Washington, DC 20005.

Status: All parts open to the public.

Matters To Be Considered: 1. Approval of the minutes of the October 19, 2009 meeting.

2. Report of the Executive Director.

3. Discussion of legislative proposals.

4. New business.

Contact Person for More Information: Thomas K. Emswiler, Committee Management Officer, (202) 942-1660.

Dated: June 8, 2010.
Thomas K. Emswiler,
General Counsel, Federal Retirement Thrift Investment Board.

[FR Doc. 2010-14172 Filed 6-9-10; 4:15 pm]

BILLING CODE 6760-01-P